DEPARTMENT OF THE INTERIOR

Office of Surface Mining Reclamation and Enforcement

30 CFR Part 870

[Docket ID: OSM 2023-0010; S1D1S SS08011000 SX064A000 245S180110;S2D2S SS08011000 SX064A000 24XS501520]

RIN 1029-AC25

Acceptable Payment Methods

AGENCY: Office of Surface Mining Reclamation and Enforcement, Interior.

ACTION: Direct final rule.

SUMMARY: The Office of Surface Mining Reclamation and Enforcement (OSMRE) is issuing this direct final rule to amend its regulations by reducing the threshold for electronic payment of quarterly Abandoned Mine Land (AML) reclamation fees from $25,000 to $500. On April 30, 2024, the U.S. Department of the Treasury (Treasury) will close OSMRE's lockbox, which is used to process non-electronic reclamation fee payments. After April 15, 2024, quarterly reclamation fees of $500 or more must be paid by electronic transfer, while quarterly reclamation fees of less than $500 may be paid by electronic transfer or by check or money order sent to OSMRE's Division of Financial Management. By reducing the threshold for electronic payments, OSMRE will receive more payments through electronic funds transfer, which will expedite and streamline its fee collection efforts.

DATES: This direct final rule is effective April 15, 2024, without further notice, unless OSMRE receives significant adverse comment by March 7, 2024. If OSMRE receives a significant adverse comment that leads it to conclude that the rule is controversial, OSMRE will publish a timely withdrawal in the Federal Register.

ADDRESSES: Send written comments identified by docket number OSM-2023-0010 or regulation identifier number (RIN) 1029-AC25 by the following method:

• Federal e-Rulemaking Portal: https://www.regulations.gov. Follow the instructions for submitting comments to docket number OSM-2023-0010.

• U.S. Postal Service or other mail delivery service: Address comments to Division of Regulatory Support, Office of Surface Mining Reclamation and Enforcement, Department of the Interior, Attn: James Tyree, 1849 C Street NW, Mail Stop 4557, Washington, DC 20240.

FOR FURTHER INFORMATION CONTACT: James Tyree, Chief, Division of Regulatory Support, (202) 208-4479, jtyree@osmre.gov.

SUPPLEMENTARY INFORMATION:

Table of Contents

I. Background

II. Direct Final Rulemaking

III. Discussion

IV. Procedural Matters and Required Determinations

I. Background

Title IV of the Surface Mining Control and Reclamation Act of 1977 (SMCRA) (30 U.S.C. 1231-1244) created the Abandoned Mine Reclamation Fund, which is funded in part by a reclamation fee (also known as the Abandoned Mine Land (AML) fee) assessed on each ton of coal produced in the United States, and that, among other things, provides funding to eligible States and Tribes for the reclamation of coal mining sites abandoned or left in an inadequate reclamation status as of August 3, 1977. Section 402(b) of SMCRA (30 U.S.C. 1232(b)) requires coal mine operators and/or permittees to pay reclamation fees no later than thirty days after the end of each calendar quarter.

OSMRE collects these fees from coal mine operators and/or permittees through electronic funds transfer and non-electronic payments. Currently, coal mine operators and/or permittees are required to send non-electronic fee payments to OSMRE's lockbox in Pittsburgh, Pennsylvania.

In April 2018, Treasury's Bureau of the Fiscal Service published a white paper titled, “The Future of Federal Financial Management,” which outlined an initiative to transform Federal collections by, among other things, reducing revenue collection lockboxes and increasing digitization. Subsequently, OSMRE received notice from Treasury's General Lockbox Network (GLN) that it intended to close OSMRE's lockbox by September 30, 2023, as part of its effort to close all lockboxes functioning below a minimum item threshold of 1,000 items. (OSMRE's lockbox receives fewer than 400 items annually.) The GLN is a collection and processing service provided by certain financial institutions to help federal government agencies process paper checks and other remittance documents (not related to taxes) that are received through the mail. To allow time to amend its regulations, OSMRE requested a lockbox closure extension until April 30, 2024, which Treasury approved.

OSMRE is promulgating this direct final rule pursuant to section 413(a) of SMCRA (30 U.S.C. 1242(a)), which authorizes the Secretary of the Interior to do all things necessary or expedient, including promulgation of rules and regulations, to implement and administer the provisions of SMCRA relating to abandoned mine reclamation.

II. Direct Final Rulemaking

OSMRE is issuing this rule as a direct final rule. Although the Administrative Procedure Act (APA, 5 U.S.C. 551-559) generally requires agencies to engage in notice and comment rulemaking, section 553 of the APA provides an exception when the agency “for good cause finds” that notice and comment are “impracticable, unnecessary, or contrary to the public interest.” Id. 553(b)(B). OSMRE has determined that notice and comment are unnecessary because this rule is noncontroversial; of a minor, technical nature; involves little agency discretion; and is unlikely to receive any significant adverse comments. A significant adverse comment is one that explains: (1) why the rule is inappropriate, including challenges to the rule's underlying premise or approach; or (2) why the direct final rule will be ineffective or unacceptable without a change. If such a comment is received, this direct final rule will be withdrawn. If no such comment is received, this direct final rule will become effective on April 15, 2024, without further OSMRE action. A comment recommending an addition to the rule will not be considered significant and adverse unless the comment explains how this direct final rule would be ineffective without the addition.

III. Discussion

OSMRE is amending 30 CFR 870.16 to: (1) reduce the threshold for electronic payment of quarterly AML fees; (2) update the instructions for remitting both electronic and non-electronic payment; and (3) remove paragraph (c).

OSMRE is amending 30 CFR 870.16(a) and (b) to reduce the threshold for electronic payment of quarterly AML fees from $25,000 to $500. By reducing the threshold, OSMRE will receive more payments through electronic funds transfer, which will expedite and streamline its fee collection efforts and align with Treasury's initiative to transform Federal collections. However, coal mine operators and/or permittees who owe quarterly AML fees in an amount below the electronic payment threshold ($500) may still pay those fees using non-electronic methods.

In addition, OSMRE is amending 30 CFR 870.16(a)(3) by updating the instructions for locating the Master Entity Number on the OSM-1 form to read “Part 1-Block 3” instead of “Part 1-Block 4” and by revising “on the wire message” to read “with the electronic payment.”

OSMRE is also amending 30 CFR 870.16(b)(2) by removing the lockbox address and directing coal mine operators and/or permittees to send non-electronic payments to the address indicated in the “Instructions for Completing the OSM-1 Form.” Relying on the “Instructions for Completing the OSM-1 Form” to communicate the location where coal mine operators and/or permittees must send non-electronic reclamation fee payments will allow OSMRE to update the location for non-electronic payments in the future without requiring OSMRE to further amend its regulations.

Finally, OSMRE is amending 30 CFR 870.16 by removing paragraph (c), which explains that payment of reclamation fees over the electronic payment threshold by any means other than electronic funds transfer is a violation of SMCRA. As SMCRA clearly requires that coal mine operators and/or permittees pay reclamation fees and the Federal regulations clearly prescribe how those fee payments must be made, paragraph (c) is unnecessary.

Who is impacted by this rulemaking?

This direct final rule will impact coal mine operators and/or permittees who use non-electronic methods to pay the reclamation fees required under Title IV of SMCRA. However, ninety-eight percent (98%) of OSMRE's total collections are already paid through electronic fund transfer mechanisms. This direct final rule will not affect those operators and/or permittees.

Why is the effective date of the rule April 15, 2024?

An effective date of April 15, 2024, will afford OSMRE the time necessary to deliver and process payments submitted to the lockbox before its closure on April 30, 2024.

What if I send a payment to the lockbox after April 15, 2024?

OSMRE will continue to process payments submitted to the lockbox between April 15 and April 30, 2024. However, if you submit a payment to the lockbox after April 30, 2024, it will be returned to you, and you will be required to submit payment to the address indicated in the “Instructions for Completing the OSM-1 Form” or through electronic funds transfer. If your reclamation fees are due and you fail to submit payment through either of the acceptable payment methods by the due date, your payment will be considered late and may be subject to one or more of the actions specified in 30 CFR 870.21.

IV. Procedural Matters and Required Determinations

Executive Order 12630—Governmental Actions and Interference With Constitutionally Protected Property Rights

This rule does not result in a taking of private property or otherwise have regulatory takings implications under Executive Order 12630. The rule primarily concerns a new dollar threshold for electronic payment of quarterly AML fees; therefore, the rule will not result in private property being taken for public use without just compensation. A takings implication assessment is not required.

Executive Order 12866—Regulatory Planning and Review, Executive Order 13563—Improving Regulation and Regulatory Review and Executive Order 14094—Modernizing Regulatory Review

Executive Order 12866, as amended by Executive Order 14094, provides that the Office of Information and Regulatory Affairs (OIRA) in the Office of Management and Budget (OMB) will review all significant rules. OIRA has determined that this rule is not significant.

Executive Order 13563 reaffirms the principles of Executive Order 12866, as amended by Executive Order 14094, while calling for improvements in the Nation's regulatory system to promote predictability, reduce uncertainty, and use the best, most innovative, and least burdensome tools for achieving regulatory ends. Executive Order 13563 directs agencies to consider regulatory approaches that reduce burdens and maintain flexibility and freedom of choice for the public where these approaches are relevant, feasible, and consistent with regulatory objectives. Executive Order 13563 emphasizes further that agencies must base regulations on the best available science and that the rulemaking process must allow for public participation and an open exchange of ideas. OSMRE developed this rule in a manner consistent with these requirements.

Executive Order 12988—Civil Justice Reform

This direct final rule complies with the requirements of Executive Order 12988. Among other things, this rule:

(a) Meets the criteria of section 3(a) requiring that all regulations be reviewed to eliminate errors and ambiguity and be written to minimize litigation;

(b) Meets the criteria of section 3(b)(2) requiring that all regulations be written in clear language and contain clear legal standards.

Executive Order 13132—Federalism

Under the criteria of section 1 of Executive Order 13132, this rule does not have sufficient federalism implications to warrant the preparation of a federalism summary impact statement. This rule will not have substantial direct effects on the States, on the relationship between the National Government and the States, or on the distribution of power and responsibilities among the various levels of government. A federalism summary impact statement is not required.

Executive Order 13175—Consultation and Coordination With Indian Tribal Governments

The Department of the Interior strives to strengthen its government-to-government relationship with Indian tribes through a commitment to consultation with Tribes and recognition of their right to self-governance and Tribal sovereignty. OSMRE evaluated this direct final rule under Executive Order 13175 and the Department's and OSMRE's consultation policies and determined that it has no substantial direct effects on Federally recognized Indian tribes and that consultation under the Department's or OSMRE's Tribal consultation policies is not required. The rule merely revises OSMRE's regulations to be consistent with Treasury's Federal collections initiative and to remove unnecessary regulatory language.

Executive Order 13211—Actions Concerning Regulations That Significantly Affect Energy Supply, Distribution, or Use

This direct final rule is not a significant energy action as defined in Executive Order 13211. Therefore, a Statement of Energy Effects is not required.

National Environmental Policy Act

This direct final rule does not constitute a major Federal action significantly affecting the quality of the human environment. A detailed statement under the National Environmental Policy Act (NEPA, 42 U.S.C. 4321 et seq.) is not required because this rule is covered by a categorical exclusion applicable to regulatory functions “that are of an administrative, financial, legal, technical, or procedural nature.” 43 CFR 46.210(i). In addition, OSMRE has determined that this rule does not involve any of the extraordinary circumstances listed in 43 CFR 46.215 that would require further analysis under NEPA.

Paperwork Reduction Act

This rule does not impose any new information collection burden under the Paperwork Reduction Act. OMB previously approved the information collection activities contained in the existing regulations and assigned OMB control number 1029-0063. This rule does not impose an information collection burden because OSMRE is not making any changes to the information collection requirements. During routine renewal of the information collection and before April 15, 2024, OSMRE will update the “Instructions for Completing the OSM-1 Form” to reflect (1) the new electronic payment threshold, and (2) the new mailing address for non-electronic payments. Additionally, as part of the renewal, OSMRE will update the “OSM-1 Form” and “Amended OSM-1 Form” to reflect the new mailing address for non-electronic payments.

Regulatory Flexibility Act

The Regulatory Flexibility Act (RFA, 5 U.S.C. 601-612) requires an agency to prepare a regulatory flexibility analysis for all rules unless the agency certifies that the rule will not have a significant economic impact on a substantial number of small entities. The RFA applies only to rules for which an agency is required to first publish a proposed rule. See 5 U.S.C. 603(a) and 604(a). As OSMRE is not required to publish a notice of proposed rulemaking for this direct final rule, the RFA does not apply.

Congressional Review Act

This rule is not a major rule under the Congressional Review Act, 5 U.S.C. 804(2). Specifically, the direct final rule: (a) will not have an annual effect on the economy of $100 million or more; (b) will not cause a major increase in costs or prices for consumers, individual industries, Federal, State, or local Government agencies, or geographic regions; and (c) will not have significant adverse effects on competition, employment, investment, productivity, innovation, or on the ability of United States-based enterprises to compete with foreign-based enterprises in domestic and export markets.

Unfunded Mandates Reform Act

This rule does not impose an unfunded mandate on State, local, or Tribal Governments, or the private sector, of more than $100 million per year. The rule does not have a significant or unique effect on State, local, or Tribal Governments, or the private sector. The rule merely revises OSMRE's regulations to reduce the threshold for electronic fee payment and to remove unnecessary regulatory language. Therefore, a statement containing the information required by the Unfunded Mandates Reform Act (2 U.S.C. 1531 et seq.) is not required.

List of Subjects in 30 CFR Part 870

Abandoned Mine Reclamation Fund—Fee Collection and Coal Production Reporting.

Delegation of Signing Authority

The action taken herein is pursuant to an existing delegation of authority.

Steven H. Feldgus,
Principal Deputy Assistant Secretary, Land and Minerals Management.

For the reasons stated in the preamble, the Department of the Interior, acting through OSMRE, amends 30 CFR part 870 as follows:

PART 870 ABANDONED MINE RECLAMATION FUND—FEE COLLECTION AND COAL PRODUCTION REPORTING

1. The authority citation for part 870 continues to read as follows:

Authority: 28 U.S.C. 1746, 30 U.S.C. 1201 et seq., and Pub. L. 105-277, 112 Stat. 2681.

2. Amend § 870.16 by revising paragraphs (a) and (b) and removing paragraph (c) to read as follows:

§ 870.16 Acceptable payment methods.

(a) If you owe total quarterly reclamation fees of $500 or more for one or more mines, you must:

(1) Use an electronic fund transfer mechanism approved by the U.S. Department of the Treasury;

(2) Forward payments by electronic transfer;

(3) Include the applicable Master Entity No.(s) (Part 1-Block 3 on the OSM-1 Form), and OSM Document No.(s) (Part 1-upper right corner of the OSM-1 Form) with the electronic payment; and

(4) Use our approved form or approved electronic form to report coal tonnage sold, used, or for which ownership was transferred to the address indicated in the Instructions for Completing the OSM-1 Form.

(b) If you owe less than $500 in quarterly reclamation fees for one or more mines, you may:

(1) Forward payments by electronic transfer in accordance with the procedures specified in paragraph (a) of this section; or

(2) Submit a check or money order payable to the Office of Surface Mining Reclamation and Enforcement in the same envelope with the OSM-1 Form to the address indicated in the Instructions for Completing the OSM-1 Form.

[FR Doc. 2024-01971 Filed 2-5-24; 8:45 am]

BILLING CODE 4310-05-P